DEPARTMENT OF DEFENSE

Department of the Navy

[Docket ID: USN-2014-0024]

Proposed Collection; Comment Request

AGENCY: Office of Human Resources, DON, DOD.

ACTION: Notice.

In compliance with the Paperwork Reduction Act of 1995, the Office of Human Resources announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 3, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of the Navy, Office of Equal Employment Opportunity (EEO) and Diversity Management, 614 Sicard Street SE., Suite 100, Washington Navy Yard, DC 20374, or call the Office of EEO and Diversity Management at (202) 685-6230.

SUPPLEMENTARY INFORMATION: Title; Associated Form; and OMB Number: Department of the Navy (DON) Reasonable Accommodations (RA) Tracker; SECNAV 12306/1T Confirmation of Reasonable Accommodation Request; OMB Control Number 0703-XXXX.

Needs And Uses: The information collection requirement is necessary to track, monitor, review, and process requests for reasonable accommodations for employees, contractors, and applicants for employment. This information will be collected by DON EEO personnel involved in the Reasonable Accommodation process and data input into the Reasonable Accommodation Tracker (electronic information system) pursuant to Executive Order 13163. Official Reasonable Accommodation case files are secured with access granted on a strictly limited basis.

Affected Public: Individuals or households; contractors and applicants for employment.

Annual Burden Hours: 33.

Number of Respondents: 100.

Responses per Respondent: 1.

Average Burden per Response: 20 minutes (0.33 Hours).

Frequency: On occasion.

The Department of the Navy Reasonable Accommodation Tracker will maintain employment information, contact information, and information related to the disabilities and reasonable accommodations/potential reasonable accommodations for employees, contractors, and applicants for employment who request reasonable accommodations. Reasonable accommodations applicants complete SECNAV 12306/1T Form-Confirmation of Reasonable Accommodation Request, information from the form will be input into the Reasonable Accommodation Tracker. Contact information of deciding officials and health care providers will also be maintained in the system. Data collected is required for DON EEO officials and employees to track, monitor, review, and process requests for reasonable accommodations. Individuals involved in the reasonable accommodation process would not be able to perform their official duties of processing or deciding on cases if the subject information is not collected and maintained by DON EEO personnel. Official Reasonable Accommodation case files are secured with access granted on a strictly limited basis. Case files will be retained for the duration of that individual's employment with the Department of the Navy. Case files maintained will be retained and disposed of in accordance with the provisions of the OPM Government wide Systems of Records, 65 CFR 27432.

Dated: December 29, 2014.
Aaron Siegel,
Alternate OSD Federal Register Liaison Officer, Department of Defense.

[FR Doc. 2014-30757 Filed 12-31-14; 8:45 am]

BILLING CODE 5001-06-P